DEPARTMENT OF ENERGY

Federal Energy Regulatory Commission

Combined Notice of Filings #1

Take notice that the Commission received the following electric corporate filings:

Docket Numbers: EC24-107-000.

Applicants: Split Rail Solar Energy LLC, Union Electric Company d/b/a Ameren Missouri.

Description: Supplement to July 30, 2024, Joint Application for Authorization Under Section 203 of the Federal Power Act of Split Rail Solar Energy LLC, et al.

Filed Date: 10/21/24.

Accession Number: 20241021-5133.

Comment Date: 5 p.m. ET 10/31/24.

Docket Numbers: EC25-9-000.

Applicants: Green Country Energy, LLC, Public Service Company of Oklahoma.

Description: Joint Application for Authorization Under Section 203 of the Federal Power Act of Green Country Energy, LLC, et al.

Filed Date: 10/15/24.

Accession Number: 20241015-5554.

Comment Date: 5 p.m. ET 12/16/24.

Take notice that the Commission received the following exempt wholesale generator filings:

Docket Numbers: EG25-18-000.

Applicants: OneLNG Power, LLC.

Description: OneLNG Power, LLC submits Notice of Self-Certification of Exempt Wholesale Generator Status.

Filed Date: 10/22/24.

Accession Number: 20241022-5099.

Comment Date: 5 p.m. ET 11/12/24.

Take notice that the Commission received the following electric rate filings:

Docket Numbers: ER16-2449-004; ER21-628-004.

Applicants: Harry Allen Solar Energy LLC, Boulder Solar II, LLC.

Description: Supplement to 10/31/2023 Notice of Change in Status of Boulder Solar II, LLC et al.

Filed Date: 10/18/24.

Accession Number: 20241018-5224.

Comment Date: 5 p.m. ET 11/8/24.

Docket Numbers: ER21-136-005.

Applicants: Flat Ridge 3 Wind Energy, LLC.

Description: Supplement to 10/31/2023 Notice of Change in Status of Flat Ridge 3 Wind Energy, LLC.

Filed Date: 10/18/24.

Accession Number: 20241018-5226.

Comment Date: 5 p.m. ET 11/8/24.

Docket Numbers: ER21-2460-008.

Applicants: New York Independent System Operator, Inc.

Description: Third Informational Report Addressing NYISO Efforts to Improve Ability of Aggregations to Provide Ancillary Services in compliance with the Commission's 04/20/2023 Order.

Filed Date: 10/21/24.

Accession Number: 20241021-5207.

Comment Date: 5 p.m. ET 11/12/24.

Docket Numbers: ER24-2563-001.

Applicants: Sheetz Energy Inc.

Description: Tariff Amendment: Sheetz MBRA Tariff to be effective 10/22/2024.

Filed Date: 10/21/24.

Accession Number: 20241021-5182.

Comment Date: 5 p.m. ET 11/12/24.

Docket Numbers: ER25-172-000.

Applicants: SunZia Transmission, LLC.

Description: § 205(d) Rate Filing: Service Agreement No. 4—LGIA with SunZia Wind North and CAISO to be effective 12/31/9998.

Filed Date: 10/21/24.

Accession Number: 20241021-5169.

Comment Date: 5 p.m. ET 11/12/24.

Docket Numbers: ER25-173-000.

Applicants: SunZia Transmission, LLC.

Description: § 205(d) Rate Filing: 2nd Amended & Restated TSA with SunZia Wind (SA No. 1) to be effective 12/31/9998.

Filed Date: 10/21/24.

Accession Number: 20241021-5171.

Comment Date: 5 p.m. ET 11/12/24.

Docket Numbers: ER25-174-000.

Applicants: Tri-State Generation and Transmission Association, Inc.

Description: § 205(d) Rate Filing: Mountain Parks Electric, Inc. Withdrawal Agreement to be effective 12/21/2024.

Filed Date: 10/21/24.

Accession Number: 20241021-5187.

Comment Date: 5 p.m. ET 11/12/24.

Docket Numbers: ER25-175-000.

Applicants: PJM Interconnection, L.L.C.

Description: § 205(d) Rate Filing: Notice of Cancellation of ICSA Service Agreement No. 5365; AB2-160 to be effective 12/21/2024.

Filed Date: 10/22/24.

Accession Number: 20241022-5013.

Comment Date: 5 p.m. ET 11/12/24.

Docket Numbers: ER25-176-000.

Applicants: Southwest Power Pool, Inc.

Description: § 205(d) Rate Filing: 1166R44 Oklahoma Municipal Power Authority NITSA and NOA to be effective 10/1/2024.

Filed Date: 10/22/24.

Accession Number: 20241022-5014.

Comment Date: 5 p.m. ET 11/12/24.

Docket Numbers: ER25-177-000.

Applicants: Southwest Power Pool, Inc.

Description: § 205(d) Rate Filing: Revisions to Add a Compensation Mechanism for System Support Resources to be effective 12/31/9998.

Filed Date: 10/22/24.

Accession Number: 20241022-5017.

Comment Date: 5 p.m. ET 11/12/24.

Docket Numbers: ER25-178-000.

Applicants: WSPP Inc.

Description: § 205(d) Rate Filing: List of Members Update 2024 to be effective 10/21/2024.

Filed Date: 10/22/24.

Accession Number: 20241022-5021.

Comment Date: 5 p.m. ET 11/12/24.

Docket Numbers: ER25-179-000.

Applicants: AEP Texas Inc.

Description: § 205(d) Rate Filing: AEPTX-Wichita Solar I Generation Interconnection Agreement to be effective 10/2/2024.

Filed Date: 10/22/24.

Accession Number: 20241022-5030.

Comment Date: 5 p.m. ET 11/12/24.

Docket Numbers: ER25-180-000.

Applicants: AEP Texas Inc.

Description: § 205(d) Rate Filing: AEPTX-Flying Kite Solar Generation Interconnection Agreement to be effective 10/2/2024.

Filed Date: 10/22/24.

Accession Number: 20241022-5039.

Comment Date: 5 p.m. ET 11/12/24.

Docket Numbers: ER25-181-000.

Applicants: Southwest Power Pool, Inc.

Description: § 205(d) Rate Filing: 1637R4 Kansas Electric Power Cooperative, Inc. NITSA and NOA to be effective 10/1/2024.

Filed Date: 10/22/24.

Accession Number: 20241022-5073.

Comment Date: 5 p.m. ET 11/12/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: October 22, 2024.
Debbie-Anne A. Reese,
Secretary.

[FR Doc. 2024-24999 Filed 10-25-24; 8:45 am]

BILLING CODE 6717-01-P